DEPARTMENT OF DEFENSE

Department of the Navy

[Docket ID: USN-2010-0038]

Privacy Act of 1974; System of Records

AGENCY: Department of the Navy, DoD.

ACTION: Notice to alter a system of records.

SUMMARY: The Department of the Navy proposes to alter a system of records in its inventory of record systems subject to the Privacy Act of 1974 (5 U.S.C. 552a), as amended.

DATES: The changes will be effective on December 22, 2010 unless comments are received that would result in a contrary determination.

ADDRESSES: You may submit comments, identified by docket number and/Regulatory Information Number (RIN) and title, by any of the following methods:

• Federal Rulemaking Portal: http://www.regulations.gov. Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Headquarters, U.S. Marine Corps, FOIA/PA Section (ARSF), 2 Navy Annex, Washington, DC 20380-1775, Ms. Teresa D. Ross (703) 614-4008.

SUPPLEMENTARY INFORMATION: The Department of the Navy systems of records notice subject to the Privacy Act of 1974, (5 U.S.C. 552a), as amended, has been published in the Federal Register and is available from the FOR FURTHER INFORMATION CONTACT address above.

The proposed systems reports, as required by 5 U.S.C. 552a(r) of the Privacy Act of 1974, as amended, were submitted on November 12, 2010, to the House Committee on Government Report, the Senate Committee on Homeland Security and Governmental Affairs, and the Office of Management and Budget (OMB) pursuant to paragraph 4c of Appendix I to OMB Circular No. A-130, “Federal Agency Responsibilities for Maintaining Records About Individual,” dated February 8, 1996 (February 20, 1996, 61 FR 6427).

Dated: November 12, 2010.
Morgan F. Park,
Alternate OSD Federal Register Liaison Officer, Department of Defense.

NM01500-2

SYSTEM NAME:

Department of the Navy (DON) Education and Training Records (February 19, 2009, 74 FR 7671)

CHANGES:

* * * * *

SYSTEM LOCATION:

Delete entry and replace with “Student records are located at schools and other training activities of the Department of the Navy, to include the United States Navy and the United States Marine Corps (USMC). Official mailing addresses are published as an appendix to the Navy's compilation of systems of records notices.

Sailor/Marine American Council on Education Registry Transcript (SMART) database is maintained at the Naval Education and Training Professional Development Technology Center, Code N6, 6490 Saufley Field Road, Pensacola, FL 32509-5237.

Vertical Launch System (VLS) records are maintained at the Naval Surface Warfare Center, Port Hueneme Division, Missile/Launcher Department, Launcher Systems Division (4W20), 4363 Missile Way, Port Hueneme, CA 93043-4307.

Marine Corps Training Integrated Management System (MCTIMS) records are located at the Marine Corps Training and Education Command (TECOM), 3300 Russell Road, Quantico, VA 22134-5001.

Marine Corps Distance Learning Program (MarineNet) records are maintained by the Naval Air Systems Command (NAVAIR) Naval Air Warfare Center Aircraft Division (NAWC AD) Special Communications Requirements Division (SCRD), 8185 Villa Road, St. Inigoes, MD 20684-0010.

The Data Housing and Reports Tool (DHART) database is maintained for the Commandant of the Marine Corps (PSL) by the Space and Naval Warfare Systems Center (SPAWARSYSCEN) Atlantic Charleston, Building 3147, Lab 1L2, North Charleston, SC 29419-9022. Paper DHART records are maintained by the Commandant of the Marine Corps, Plans, Policy and Operations Department, Security Division, Law Enforcement and Corrections Branch (PSL), 2111 Eisenhower Ave., Suite 402, Alexandria, VA 22314-4679, and by USMC installation Provost Marshal's offices/Marine Corps police departments.

Marine Corps Aviation Learning Management System—Enterprise (MCALMS-E) records are maintained by the Network Operations Center (NOC), Building 24, McHugh Boulevard, Marine Corps Base (MCB) Camp Lejeune, NC 28547-2519.

The Corporate Enterprise Training Activity Resource System (CeTARS) is maintained at the Naval Education and Training Professional Development Technology Center (NETPDTC), Attn: CeTARS Program Director (Code N621), 6490 Saufley Field Road, Pensacola, FL 32509-5235.”

CATEGORIES OF INDIVIDUALS COVERED BY THE SYSTEM:

Delete entry and replace with “Student records cover present, former, and prospective students at the Department of Navy and USMC schools, and training activities or associated educational institution of Navy sponsored programs; instructors, staff and support personnel including contractors; participants associated with activities of the Naval Education and Training Command, including the Navy College Office and other training programs; and spouses and family members participating in online tutorial and tutorial volunteer programs.

SMART records cover Active Duty Navy and Marine Corps members, Reservists, and separated or retired Navy and Marine Corps members.

VLS records cover civilians, Active Duty Navy members, and Department of the Navy contractors.

MCTIMS, MarineNet, and MCALMS-E records cover Active Duty, Reserve, and retired Marines, civilian employees, and other service students attending Marine schools, other service's schools, or classes/courses at non-DoD educational institutions.

DHART student records cover present, former, and prospective students at police academies and individuals assigned to police activities; Marines, civilian employees, and other Service students attending police academies; and instructors, staff and support personnel.

CeTARS records cover former, present and prospective military service members, foreign nationals, DoD civilians and contractor personnel.”

CATEGORIES OF RECORDS IN THE SYSTEM:

Delete entry and replace with: “Student records: Schools and personnel training programs, administration, and evaluation records. Records include basic identification records that consist of, Social Security Number (SSN), name, sex, date of birth, personnel records.

Personnel data and records: rank, rate, grade, branch of service, billet and expiration of active obligated service.

Contact Data: Home address, home and work telephone number, and home e-mail address.

Professional Records: Navy enlisted classification, military occupational specialty (MOS) for Marines, subspecialty codes, (civilian pay series), test scores, psychological profile, basic test battery scores, and Navy advancement test scores.

Educational Records: Education levels, service and civilian schools attended, degrees, majors, personnel assignment data, course achievement data, class grades, class standing, date of graduation, and attrition categories.

SMART Records: Enlisted Qualifications History NAVPERS Form 1070-604; certificates of completion; college transcripts; test score completions; grade reports; requests for Sailor/Marine American Council on Education Registry Transcripts.

VLS Records: Name, quiz, homework, and test scores. In those instances when the student has performed below the minimum requirements, copies of the minutes of the Academic Review Board will be included.

MCTIMS, MarineNet, and MCALMS-E Records: Student records data as shown above, individual records of all things training and education for each Marine in an individual Electronic Training Jacket, assignment to promotion points for specific completed training course and skills, proficiencies and courses/classes for current and higher Military Occupational Specialty (MOS) requirements.

DHART Police Academy and Personnel Training Program Administration and Evaluation Records Consist of Basic Identification Data: Last four of Social Security Number (SSN), name, sex, date of birth.

CeTARS Records: Contains personnel records for students, instructors and administrative staff members. The data in these personnel records consists of basic identification records: Social Security Number (SSN), name, sex, date of birth.

Academic/training records, manual and mechanized, and other records of educational and professional accomplishment.”

AUTHORITY FOR MAINTENANCE OF THE SYSTEM:

Delete entry and replace with “10 U.S.C. 5013, Secretary of the Navy; 10 U.S.C. 5041, Headquarters, Marine Corps: Function, composition; OPNAVINST 1510.10B, Corporate Enterprise Training Activity Resource System (CeTARS), Catalog of Navy Training Courses and Student Reporting Requirements; MCO 1580.7D, Schools Inter-service Training; and E.O. 9397 (SSN), as amended.”

PURPOSE(S):

Delete entry and replace with “Student records: To record course and training demands, requirements, and achievements; analyze student groups or courses; provide academic and performance evaluation in response to official inquiries; provide guidance and counseling to students; prepare required reports; and for training administration and planning.

SMART Records: To provide recommended college credit based on military experience and training to colleges and universities for review and acceptance. Requesters may have information mailed to them or the college(s)/university(ies) of their choice.

VLS Records: To record course and training demands, requirements, and achievements; analyze student groups or courses; provide academic and performance evaluation in response to official inquiries; and provide guidance and counseling to students.

MCTIMS, MarineNet, and MCALMS-E Records: To record student records for Active Duty, Reserve, and retired Marines, civilians employed by the Marine Corps, and other service students attending Marine Corps schools and courses, other service's schools, and/or attending/completing educational institution courses/classes. To maintain an individual record of all things related to training and education for Marine Active Duty and Reserve personnel. The systems provide the individual Electronic Training Jacket that can be accessed against the unit morning report allowing evaluation against the MOS Roadmap for individual training assessment and requirements. At the unit level, the systems allow for evaluation of assigned personnel training assessment against Marine Corps Training and Readiness Manuals for automated unit training management support, assessment of the automated unit training readiness, and the determination of unit combat readiness percentage.

DHART Records: To provide a database of student records for students attending police academies, classes, and courses; to provide an individual record of all police training and education for Marines, civilian police personnel, and other service personnel attending police academies; to maintain student records for in-service, sustainment, security augmentation force, auxiliary security force, re-qualification and specialized law enforcement/security training; to provide academic and performance evaluations in response to official inquiries; to provide guidance and counseling to students; to prepare required reports; and for other training administration and planning purposes.

CeTARS Records: Facilitates the collection, storage, modification, and retrieval of training information about the students attending Navy courses, as well as course-related data, and quota data for planning/execution of Navy training.”

* * * * *

RETRIEVABILITY:

Delete entry and replace with “Records are retrieved by name, full/partial Social Security Number (SSN) and/or date of birth.”

SAFEGUARDS:

Delete entry and replace with “Physical access to the central computer operations area is provided on a need-to-know basis and to Common Access Card (CAC) card authorized, authenticated personnel only. Records are maintained in controlled access rooms or areas. Physical access to terminals is restricted to specifically authorized individuals who have a need-to-know. Password authorization, assignment and monitoring are the responsibility of the functional managers.”

RETENTION AND DISPOSAL:

Delete entry and replace with “Student records are shredded and/or degaussed after completion of training, transfer, or discharge; provided the data has been recorded in the individual's service record or on the student's record card.

Active Duty training records for officers and enlisted personnel are permanent and transferred to the National Archives and Records Administration (NARA) for retention when they are twenty years old.

SMART Records: Automated SMART (transcripts) are retained permanently. Documents submitted to compile, update, or correct SMART records, which include Enlisted Qualifications History NAVPERS Form 1070-604, transcripts, and certificates, are destroyed after 3 years.

VLS records are shredded and/or degaussed 2 years after completion of training.

MCTIMS, MarineNET, and MCALMS-E Records: Automated records are retained permanently. The records are utilized for current future and historical assessments including training schools, courses, and training requirements, recruit selection criteria, individual course completion, school training through-put, and student attrition.

DHART Records: DHART records are retained for the duration of employment/service plus 30 years and then shredded. Active Duty training records for officers and enlisted personnel shall be maintained permanently and transferred to NARA for retention when they are twenty years old.

CeTARS Records: Permanent and transferred to NARA for retention when they are twenty years old.”

SYSTEM MANAGER(S) AND ADDRESS:

Delete entry and replace with “Student records: The commanding officer of the activity in question. Official mailing addresses are published as an appendix to the Navy's compilation of systems of records notices.

SMART Records: Commander, Naval Educational and Training Professional Development Technology Center, Code N6, 6490 Saufley Field Road, Pensacola, FL 32509-5237.

VLS Records: Department Manager, Naval Surface Warfare Center, Port Hueneme Division, Missile/Launcher Department, Launcher Systems Division, 4363 Missile Way, Port Hueneme, CA 93043-4307.

MCTIMS Records: Commanding General, Training and Education Command, Attn: MCTIMS Program Manager, 3300 Russell Road, MCB Quantico, VA 22134-5001.

MarineNet Records: Commanding General, Training and Education Command, Attn: College of Distance Education and Training, 2300 A Louis Street, MCB Quantico, VA 22134-5118.

DHART Records: Commandant of the Marine Corps, Plans, Policy and Operations Department, Security Division, Law Enforcement and Corrections Branch (PSL), 3000 Marine Corps Pentagon, Washington, DC 20380-1775.

MCALMS-E Records: U.S. Marine Corps Department Head, Aviation Training Systems, Naval Air Systems Command (PMA-205MC), 47123 Buse Road, Building 2272, Room 345, Patuxent River Naval Air Station, MD 20670-1547.

CeTARS Records: Commander, Naval Education and Training Professional Development Technology Center (NETPDTC), Attn: CeTARS Program Director (Code N621), 6490 Saufley Field Road, Pensacola, FL 32509-5235.”

NOTIFICATION PROCEDURES:

Delete entry and replace with “Individuals seeking to determine whether information about themselves is contained in this system should address written inquiries to the appropriate official below:

Student Records: Address inquiries to the commanding officer of the activity in question. Official mailing addresses are published as an appendix to the Navy's compilation of systems of records notices.

Written requests should include full name, Social Security Number (SSN), military or civilian employee duty status, if applicable, and other data when appropriate, such as graduation date. All written requests must be signed and notarized.

Visitors should present drivers license, military or civilian employee identification card, or other similar identification.

SMART Records: Address written inquiries to the Commanding Officer, Center for Personal and Professional Development (Attn: Virtual Education Center), 1905 Regulus Avenue, Suite 234, Virginia Beach, VA 23461-2009.

Written requests should include a completed “Request for Sailor/Marine American Council on Education Registry Transcript” which can be obtained from the System Manger and solicits full name, command address, current rate/rank, Social Security Number (SSN), home and work telephone numbers, current status branch of service. All written requests must be signed and notarized.

VLS Records: Address written inquiries to the Department Manager, Naval Surface Warfare Center, Port Hueneme Division, Missile/Launcher Department, Launcher Systems Division (4W20), 4363 Missile Way, Port Hueneme, CA 93043-4307.

Written requests should include full name, Social Security Number (SSN), military, civilian employee, or contractor duty status, if applicable, and other data when appropriate, such as graduation date.

MCTIMS Records: Address written inquiries to the Commanding General, Training and Education Command, Attn: MCTIMS Program Manager, 3300 Russell Road, Marine Corps Base, Quantico, VA 22134-5001.

Written requests should include full name, Social Security Number (SSN), military, civilian employee, or contractor duty status, if applicable, and other data when appropriate, such as graduation date. All written requests must be signed and notarized.

MarineNet Records: Address written inquiries to the Commanding General, Training and Education Command, Attn: College of Distance Education and Training, 2300 A Louis Street, Quantico, VA 22134-5118.

Written requests should include full name, Social Security Number (SSN), military, civilian employee, or contractor duty status, if applicable, and other data when appropriate, such as graduation date. All written requests must be signed and notarized.

DHART Records: Address written inquiries to the Commandant of the Marine Corps, Plans, Policy and Operations Department, Security Division, Law Enforcement and Corrections Branch (PSL), 3000 Marine Corps Pentagon, Washington, DC 20380-1775, or to the Provost Marshal/Police Chief of the United States Marine Corps (USMC) installation in question. Official mailing addresses are published as an appendix to the Navy's compilation of systems of records notices.

Written requests should include full name and the last four numbers of their Social Security Number (SSN). All written requests must be signed and notarized. Visitors should present drivers license, military or civilian employee identification card, or other similar identification.

MCALMS-E Records: Address written inquiries to the U.S. Marine Corps Department Head, Aviation Training Systems, Naval Air Systems Command (PMA-205MC), 47123 Buse Road, Building 2272, Room 345, Patuxent River Naval Air Station, MD 20670-1547.

Written requests should include full name, Social Security Number (SSN), and other data when appropriate, such as graduation date. All written requests must be signed and notarized.

CeTARS Records: Address written inquiries to Commander, Naval Education and Training Professional Development Technology Center (NETPDTC), Attn: CeTARS Program Director (Code N621), 6490 Saufley Field Road, Pensacola, FL 32509-5235.

Written requests should include full name, address, and Social Security Number (SSN). All written requests must be signed and notarized.”

RECORD ACCESS PROCEDURES:

Delete entry and replace with “Individuals seeking to access information about themselves contained in this system should address written inquiries to the appropriate official below:

Student Records: Address inquiries to the commanding officer of the activity in question. Official mailing addresses are published as an appendix to the Navy's compilation of systems of records notices.

Written requests should include full name, Social Security Number (SSN), military or civilian employee duty status, if applicable, and other data when appropriate, such as graduation date. All written requests must be signed and notarized. Visitors should present drivers license, military or civilian employee identification card, or other similar identification.

SMART Records: Address inquiries to the Commanding Officer, Center for Personal and Professional Development (Attn: Virtual Education Center), 1905 Regulus Avenue, Suite 234, Virginia Beach, VA 23461-2009.

Written requests should include a completed “Request for Sailor/Marine American Council on Education Registry Transcript” which can be obtained from the System Manger and solicits full name, command address, current rate/rank, Social Security Number (SSN), home and work telephone numbers, current status branch of service. All written requests must be signed and notarized.

VLS Records: Address inquiries to the Department Manager, Naval Surface Warfare Center, Port Hueneme Division, Missile/Launcher Department, Launcher Systems Division (4W20), 4363 Missile Way, Port Hueneme, CA 93043-4307.

Written requests should include full name, Social Security Number (SSN), military, civilian employee or contractor duty status, if applicable, and other data when appropriate, such as graduation date. All written requests must be signed and notarized.

MCTIMS Records: Address inquiries to the Commanding General, Training and Education Command, Attn: MCTIMS Program Manager, 3300 Russell Road, Quantico, VA 22134-5001.

Written requests should include full name, Social Security Number (SSN), military, civilian employee, or contractor duty status, if applicable, and other data when appropriate, such as graduation date. All written requests must be signed and notarized.

MarineNet Records: Address inquiries to the Commanding General, Training and Education Command, Attn: College of Distance Education and Training, 2300 A Louis Street, Quantico, VA 22134-5118.

Written request should include full name, Social Security Number (SSN), military, civilian employee, or contractor duty status, if applicable, and other data when appropriate, such as graduation date. All written requests must be signed and notarized.

DHART Records: Address inquiries to the Commandant of the Marine Corps, Plans, Policy and Operations Department, Security Division, Law Enforcement and Corrections Branch (PSL), 3000 Marine Corps Pentagon, Washington, DC 20380-1775 or to the the Provost Marshal/Police Chief of the USMC installation in question. Official mailing addresses are published as an appendix to the Navy's compilation of systems of records notices.

Written request should include full name and the last four numbers of their Social Security Number (SSN). All written requests must be signed and notarized. Visitors should present drivers license, military or civilian employee identification card, or other similar identification.

MCALMS-E Records: Address inquiries to the Commander, Naval Air Systems Command, Aviation Training Systems Program Office (PMA-205MC), 47123 Buse Road, Building 2272, Room 345, NAS Patuxent River, MD 20670-1547.

Written requests should include full name and the last four numbers of their Social Security Number (SSN). All written requests must be signed and notarized. Visitors should present drivers license, military or civilian employee identification card, or other similar identification.

CeTARS Records: Address inquiries to the Commander, Naval Education and Training Professional Development Technology Center (NETPDTC), Attn: CeTARS Program Director (Code N621), 6490 Saufley Field Road, Pensacola, FL 32509-5235.

Written requests should include full name, current rate/rank, Social Security Number (SSN), status, branch of service. All written requests must be signed and notarized.”

* * * * *

RECORD SOURCE CATEGORIES:

Delete entry and replace with “Individuals; schools and educational institutions; Navy Personnel Command; Naval Education and Training Command; Headquarters, Marine Corps; Naval Special Warfare Center; Navy Recruiting Command; USMC Training and Education Command; instructor personnel, Defense Enrollment Eligibility Records System (DEERS), Marine Corps Distance Learning Database (MarineNET), Marine Corps Aviation Learning Management System Enterprise (MCALMS-E) and the Joint Personnel Adjudication System (JPAS).”

* * * * *

NM01500-2

SYSTEM NAME:

Department of the Navy (DON) Education and Training Records.

SYSTEM LOCATION:

Student records are located at schools and other training activities of the Department of the Navy, to include the United States Navy and the United States Marine Corps (USMC). Official mailing addresses are published as an appendix to the Navy's compilation of systems of records notices.

Sailor/Marine American Council on Education Registry Transcript (SMART) database is maintained at the Naval Education and Training Professional Development Technology Center, Code N6, 6490 Saufley Field Road, Pensacola, FL 32509-5237.

Vertical Launch System (VLS) records are maintained at the Naval Surface Warfare Center, Port Hueneme Division, Missile/Launcher Department, Launcher Systems Division (4W20), 4363 Missile Way, Port Hueneme, CA 93043-4307.

Marine Corps Training Integrated Management System (MCTIMS) records are located at the Marine Corps Training and Education Command (TECOM), 3300 Russell Road, Quantico, VA 22134-5001.

Marine Corps Distance Learning Program (MarineNet) records are maintained by the Naval Air Systems Command (NAVAIR) Naval Air Warfare Center Aircraft Division (NAWC AD) Special Communications Requirements Division (SCRD), 8185 Villa Road, St. Inigoes, MD 20684-0010.

The Data Housing and Reports Tool (DHART) database is maintained for the Commandant of the Marine Corps (PSL) by the Space and Naval Warfare Systems Center (SPAWARSYSCEN) Atlantic Charleston, Building 3147, Lab 1L2, North Charleston SC 29419-9022. Paper DHART records are maintained by the Commandant of the Marine Corps, Plans, Policy and Operations Department, Security Division, Law Enforcement and Corrections Branch (PSL), 2111 Eisenhower Ave., Suite 402, Alexandria, VA 22314-4679, and by USMC installation Provost Marshal's offices/Marine Corps police departments.

Marine Corps Aviation Learning Management System—Enterprise (MCALMS-E) records are maintained by the Network Operations Center (NOC), Building 24, McHugh Boulevard, Marine Corps Base (MCB) Camp Lejeune, NC 28547-2519.

The Corporate Enterprise Training Activity Resource System (CeTARS) is maintained at the Naval Education and Training Professional Development Technology Center (NETPDTC), Attn: CeTARS Program Director (Code N621), 6490 Saufley Field Road, Pensacola, FL 32509-5235.

CATEGORIES OF INDIVIDUALS COVERED BY THE SYSTEM:

Student records cover present, former, and prospective students at the Department of Navy and USMC schools, and training activities or associated educational institutions of Navy sponsored programs; instructors, staff and support personnel including contractors; participants associated with activities of the Naval Education and Training Command, including the Navy College Office and other training programs; and spouses and family members participating in online tutorial and tutorial volunteer programs.

SMART records cover Active Duty Navy and Marine Corps members, Reservists, and separated or retired Navy and Marine Corps members.

VLS records cover civilians, Active Duty Navy members, and Department of the Navy contractors.

MCTIMS, MarineNet, and MCALMS-E records cover Active Duty, Reserve, and retired Marines, civilian employees, and other service students attending Marine schools, other service's schools, or classes/courses at non-DoD educational institutions.

DHART student records cover present, former, and prospective students at police academies and individuals assigned to police activities; Marines, civilian employees, and other Service students attending police academies; and instructors, staff and support personnel.

CeTARS records cover former, present and prospective military service members, foreign nationals, DoD civilians and contractor personnel.

CATEGORIES OF RECORDS IN THE SYSTEM:

Student Records: Schools and personnel training programs, administration, and evaluation records. Records include basic identification records that consist of, Social Security Number (SSN), name, sex, date of birth, personnel records.

Personnel Data and Records: Rank, rate, grade, branch of service, billet and expiration of active obligated service.

Contact Data: Home address, home and work telephone number, and home e-mail address.

Professional Records: Navy enlisted classification, military occupational specialty (MOS) for Marines, subspecialty codes, (civilian pay series), test scores, psychological profile, basic test battery scores, and Navy advancement test scores.

Educational Records: Education levels, service and civilian schools attended, degrees, majors, personnel assignment data, course achievement data, class grades, class standing, date of graduation, and attrition categories.

SMART Records: Enlisted Qualifications History NAVPERS Form 1070-604; certificates of completion; college transcripts; test score completions; grade reports; requests for Sailor/Marine American Council on Education Registry Transcripts.

VLS Records: Name, quiz, homework, and test scores. In those instances when the student has performed below the minimum requirements, copies of the minutes of the Academic Review Board will be included.

MCTIMS, MarineNet, and MCALMS-E Records: Student records data as shown above, individual records of all things training and education for each Marine in an individual Electronic Training Jacket, assignment to promotion points for specific completed training course and skills, proficiencies and courses/classes for current and higher Military Occupational Specialty (MOS) requirements.

DHART police academy and personnel training program administration and evaluation records consist of basic identification data: Last four of Social Security Number (SSN), name, sex, date of birth.

CeTARS Records: Contains personnel records for students, instructors and administrative staff members. The data in these personnel records consists of basic identification records: Social Security Number (SSN), name, sex, date of birth.

Academic/training records, manual and mechanized, and other records of educational and professional accomplishment.

AUTHORITY FOR MAINTENANCE OF THE SYSTEM:

10 U.S.C. 5013, Secretary of the Navy; 10 U.S.C. 5041, Headquarters, Marine Corps: Function, composition; OPNAVINST 1510.10B, Corporate Enterprise Training Activity Resource System (CeTARS), Catalog of Navy Training Courses and Student Reporting Requirements; MCO 1580.7D Schools Inter-service Training; and E.O. 9397 (SSN), as amended.

PURPOSE(S):

Student records: To record course and training demands, requirements, and achievements; analyze student groups or courses; provide academic and performance evaluation in response to official inquiries; provide guidance and counseling to students; prepare required reports; and for training administration and planning.

SMART Records: To provide recommended college credit based on military experience and training to colleges and universities for review and acceptance. Requesters may have information mailed to them or the college(s)/university(ies) of their choice.

VLS Records: To record course and training demands, requirements, and achievements; analyze student groups or courses; provide academic and performance evaluation in response to official inquiries; and provide guidance and counseling to students.

MCTIMS, MarineNet, and MCALMS-E Records: To record student records for Active Duty, Reserve, and retired Marines, civilians employed by the Marine Corps, and other service students attending Marine Corps schools and courses, other service's schools, and/or attending/completing educational institution courses/classes. To maintain an individual record of all things related to training and education for Marine Active Duty and Reserve personnel. The systems provide the individual Electronic Training Jacket that can be accessed against the unit morning report allowing evaluation against the MOS Roadmap for individual training assessment and requirements. At the unit level, the systems allow for evaluation of assigned personnel training assessment against Marine Corps Training and Readiness Manuals for automated unit training management support, assessment of the automated unit training readiness, and the determination of unit combat readiness percentage.

DHART Records: To provide a database of student records for students attending police academies, classes, and courses; to provide an individual record of all police training and education for Marines, civilian police personnel, and other service personnel attending police academies; to maintain student records for in-service, sustainment, security augmentation force, auxiliary security force, re-qualification and specialized law enforcement/security training; to provide academic and performance evaluations in response to official inquiries; to provide guidance and counseling to students; to prepare required reports; and for other training administration and planning purposes.

CeTARS Records: Facilitates the collection, storage, modification, and retrieval of training information about the students attending Navy courses, as well as course-related data, and quota data for planning/execution of Navy training.

ROUTINE USES OF RECORDS MAINTAINED IN THE SYSTEM, INCLUDING CATEGORIES OF USERS AND THE PURPOSES OF SUCH USES:

In addition to those disclosures generally permitted under 5 U.S.C. 552a(b) of the Privacy Act of 1974, these records or information contained therein may specifically be disclosed outside the DoD as a routine use pursuant to 5 U.S.C. 552a(b)(3) as follows:

The DoD `Blanket Routine Uses' that appear at the beginning of the Navy's compilation of systems of records notices apply to this system.

POLICIES AND PRACTICES FOR STORING, RETRIEVING, ACCESSING, RETAINING, AND DISPOSING OF RECORDS IN THE SYSTEM:

STORAGE:

Paper records and electronic storage media.

RETRIEVABILITY:

Records are retrieved by name, full/partial Social Security Number (SSN) and/or date of birth.

SAFEGUARDS:

Physical access to the central computer operations area is provided on a need-to-know basis and to CAC card authorized, authenticated personnel only. Records are maintained in controlled access rooms or areas. Physical access to terminals is restricted to specifically authorized individuals who have a need-to-know. Password authorization, assignment and monitoring are the responsibility of the functional managers.

RETENTION AND DISPOSAL:

Student records are shredded and/or degaussed after completion of training, transfer, or discharge, provided the data has been recorded in the individual's service record or on the student's record card.

Active Duty training records for officers and enlisted personnel are permanent and transferred to the National Archives and Records Administration (NARA) for retention when they are twenty years old.

SMART Records: Automated SMART (transcripts) are retained permanently. Documents submitted to compile, update, or correct SMART records, which include Enlisted Qualifications History NAVPERS Form 1070-604, transcripts, and certificates, are destroyed after 3 years.

VLS records are shredded and/or degaussed 2 years after completion of training.

MCTIMS, MarineNet, and MCALMS-E Records: Automated records are retained permanently. The records are utilized for current future and historical assessments including training schools, courses, and training requirements, recruit selection criteria, individual course completion, school training through-put, and student attrition.

DHART Records: DHART records are retained for the duration of employment/service plus 30 years and then shredded. Active Duty training records for officers and enlisted personnel shall be maintained permanently and transferred to NARA for retention when they are twenty years old.

CeTARS Records: Permanent and transferred to NARA for retention when they are twenty years old.

System Manager(s) and Address:

Student records: The commanding officer of the activity in question. Official mailing addresses are published as an appendix to the Navy's compilation of systems of records notices.

SMART Records: Commander, Naval Educational and Training Professional Development Technology Center, Code N6, 6490 Saufley Field Road, Pensacola, FL 32509-5237.

VLS Records: Department Manager, Naval Surface Warfare Center, Port Hueneme Division, Missile/Launcher Department, Launcher Systems Division, 4363 Missile Way, Port Hueneme, CA 93043-4307.

MCTIMS Records: Commanding General, Training and Education Command, Attn: MCTIMS Program Manager, 3300 Russell Road, MCB Quantico, VA 22134-5001.

MarineNet Records: Commanding General, Training and Education Command, Attn: College of Distance Education and Training, 2300 A Louis Street, MCB Quantico, VA 22134-5118.

DHART Records: Commandant of the Marine Corps, Plans, Policy and Operations Department, Security Division, Law Enforcement and Corrections Branch (PSL), 3000 Marine Corps Pentagon, Washington, DC 20380-1775.

MCALMS-E Records: U.S. Marine Corps Department Head, Aviation Training Systems, Naval Air Systems Command (PMA-205MC), 47123 Buse Road, Building 2272, Room 345, Patuxent River Naval Air Station, MD 20670-1547.

CeTARS Records: Commander, Naval Education and Training Professional Development Technology Center (NETPDTC), Attn: CeTARS Program Director (Code N621), 6490 Saufley Field Road, Pensacola, FL 32509-5235.

NOTIFICATION PROCEDURES:

Individuals seeking to determine whether information about themselves is contained in this system should address written inquiries to the appropriate official below:

Student Records: Address inquiries to the commanding officer of the activity in question. Official mailing addresses are published as an appendix to the Navy's compilation of systems of records notices.

Written requests should include full name, Social Security Number (SSN), military or civilian employee duty status, if applicable, and other data when appropriate, such as graduation date. All written requests must be signed and notarized. Visitors should present drivers license, military or civilian employee identification card, or other similar identification.

SMART Records: Address written inquiries to the Commanding Officer, Center for Personal and Professional Development (Attn: Virtual Education Center), 1905 Regulus Avenue, Suite 234, Virginia Beach, VA 23461-2009.

Written requests should include a completed “Request for Sailor/Marine American Council on Education Registry Transcript” which can be obtained from the System Manager and solicits full name, command address, current rate/rank, Social Security Number (SSN), home and work telephone numbers, current status branch of service. All written requests must be signed and notarized.

VLS Records: Address written inquiries to the Department Manager, Naval Surface Warfare Center, Port Hueneme Division, Missile/Launcher Department, Launcher Systems Division (4W20), 4363 Missile Way, Port Hueneme, CA 93043-4307.

Written requests should include full name, Social Security Number (SSN), military, civilian employee, or contractor duty status, if applicable, and other data when appropriate, such as graduation date.

MCTIMS Records: Address written inquiries to the Commanding General, Training and Education Command, Attn: MCTIMS Program Manager, 3300 Russell Road, Marine Corps Base, Quantico, VA 22134-5001.

Written requests should include full name, Social Security Number (SSN), military, civilian employee, or contractor duty status, if applicable, and other data when appropriate, such as graduation date. All written requests must be signed and notarized.

MarineNet Records: Address written inquiries to the Commanding General, Training and Education Command, Attn: College of Distance Education and Training, 2300 A Louis Street, Quantico, VA 22134-5118.

Written requests should include full name, Social Security Number (SSN), military, civilian employee, or contractor duty status, if applicable, and other data when appropriate, such as graduation date. All written requests must be signed and notarized.

DHART Records: Address written inquiries to the Commandant of the Marine Corps, Plans, Policy and Operations Department, Security Division, Law Enforcement and Corrections Branch (PSL), 3000 Marine Corps Pentagon, Washington, DC 20380-1775, or to the Provost Marshal/Police Chief of the United States Marine Corps (USMC) installation in question. Official mailing addresses are published as an appendix to the Navy's compilation of systems of records notices.

Written requests should include full name and the last four numbers of their Social Security Number (SSN). All written requests must be signed and notarized. Visitors should present drivers license, military or civilian employee identification card, or other similar identification.

MCALMS-E Records: Address written inquiries to the U.S. Marine Corps Department Head, Aviation Training Systems, Naval Air Systems Command (PMA-205MC), 47123 Buse Road, Building 2272, Room 345, Patuxent River Naval Air Station, MD 20670-1547.

Written requests should include full name, Social Security Number (SSN), and other data when appropriate, such as graduation date. All written requests must be signed and notarized.

CeTARS Records: Address written inquiries to Commander, Naval Education and Training Professional Development Technology Center (NETPDTC), Attn: CeTARS Program Director (Code N621), 6490 Saufley Field Road, Pensacola, FL 32509-5235.

Written requests should include full name, address, and Social Security Number (SSN). All written requests must be signed and notarized.

Record Access Procedures:

Individuals seeking to access information about themselves contained in this system should address written inquiries to the appropriate official below:

Student Records: Address inquiries to the commanding officer of the activity in question. Official mailing addresses are published as an appendix to the Navy's compilation of systems of records notices.

Written requests should include full name, Social Security Number (SSN), military or civilian employee duty status, if applicable, and other data when appropriate, such as graduation date. All written requests must be signed and notarized. Visitors should present drivers license, military or civilian employee identification card, or other similar identification.

SMART Records: Address inquiries to the Commanding Officer, Center for Personal and Professional Development (Attn: Virtual Education Center), 1905 Regulus Avenue, Suite 234, Virginia Beach, VA 23461-2009.

Written requests should include a completed “Request for Sailor/Marine American Council on Education Registry Transcript” which can be obtained from the System Manager and solicits full name, command address, current rate/rank, Social Security Number (SSN), home and work telephone numbers, current status branch of service. All written requests must be signed and notarized.

VLS Records: Address inquiries to the Department Manager, Naval Surface Warfare Center, Port Hueneme Division, Missile/Launcher Department, Launcher Systems Division (4W20), 4363 Missile Way, Port Hueneme, CA 93043-4307.

Written requests should include full name, Social Security Number (SSN), military, civilian employee or contractor duty status, if applicable, and other data when appropriate, such as graduation date. All written requests must be signed and notarized.

MCTIMS Records: Address inquiries to the Commanding General, Training and Education Command, Attn: MCTIMS Program Manager, 3300 Russell Road, Quantico, VA 22134-5001.

Written requests should include full name, Social Security Number (SSN), military, civilian employee, or contractor duty status, if applicable, and other data when appropriate, such as graduation date. All written requests must be signed and notarized.

MarineNet Records: Address inquiries to the Commanding General, Training and Education Command, Attn: College of Distance Education and Training, 2300 A Louis Street, Quantico, VA 22134-5118.

Written requests should include full name, Social Security Number (SSN), military, civilian employee, or contractor duty status, if applicable, and other data when appropriate, such as graduation date. All written requests must be signed and notarized.

DHART Records: Address inquiries to the Commandant of the Marine Corps, Plans, Policy and Operations Department, Security Division, Law Enforcement and Corrections Branch (PSL), 3000 Marine Corps Pentagon, Washington, DC 20380-1775 or to the the Provost Marshal/Police Chief of the USMC installation in question. Official mailing addresses are published as an appendix to the Navy's compilation of systems of records notices.

Written requests should include full name and the last four numbers of their Social Security Number (SSN). All written requests must be signed and notarized. Visitors should present drivers license, military or civilian employee identification card, or other similar identification.

MCALMS-E Records: Address inquiries to the Commander, Naval Air Systems Command, Aviation Training Systems Program Office (PMA-205MC), 47123 Buse Road, Building 2272, Room 345, NAS Patuxent River, MD 20670-1547.

Written requests should include full name and the last four numbers of their Social Security Number (SSN). All written requests must be signed and notarized. Visitors should present drivers license, military or civilian employee identification card, or other similar identification.

CeTARS Records: Address inquiries to the Commander, Naval Education and Training Professional Development Technology Center (NETPDTC), Attn: CeTARS Program Director (Code N621), 6490 Saufley Field Road, Pensacola, FL 32509-5235.

Written requests should include full name, current rate/rank, Social Security Number (SSN), status, branch of service. All written requests must be signed and notarized.

CONTESTING RECORD PROCEDURES:

The Navy's rules for accessing records, and for contesting contents and appealing initial agency determinations are published in Secretary of the Navy Instruction 5211.5; 32 CFR part 701; or may be obtained from the system manager.

RECORD SOURCE CATEGORIES:

Individuals; schools and educational institutions; Navy Personnel Command; Naval Education and Training Command; Headquarters, Marine Corps; Naval Special Warfare Center; Navy Recruiting Command; USMC Training and Education Command; instructor personnel, Defense Enrollment Eligibility Records System (DEERS), Marine Corps Distance Learning Database (MarineNet), Marine Corps Aviation Learning Management System Enterprise (MCALMS-E) and the Joint Personnel Adjudication System (JPAS).

EXEMPTIONS CLAIMED FOR THE SYSTEM:

None.

[FR Doc. 2010-29334 Filed 11-19-10; 8:45 am]

BILLING CODE 5001-06-P